ENVIRONMENTAL PROTECTION AGENCY

[EPA-HQ-OPP-2012-0737; FRL-9534-7]

Information Collection Request Submitted to OMB for Review and Approval; Comment Request; Standards for Pesticide Containers and Containment

AGENCY: Environmental Protection Agency (EPA).

ACTION: Notice.

SUMMARY: The Environmental Protection Agency has submitted an information collection request (ICR), “Standards for Pesticide Containers and Containment” (EPA ICR No. 1632.04; OMB Control No. 2070-0133) to the Office of Management and Budget (OMB) for review and approval in accordance with the Paperwork Reduction Act (44 U.S.C. 3501 et seq.). This is a proposed extension of the ICR, which is currently approved through July 31, 2013. The ICR, which is abstracted below, describes the nature of the information collection activity and its expected burden and costs. Copies of the ICR and related documents are available in the docket.

DATES: Additional comments may be submitted on or before August 21, 2013.

ADDRESSES: Submit your comments, referencing Docket ID Number EPA-HQ-OPP-2012-0737, to (1) EPA online using http://www.regulations.gov (our preferred method), by email to oppncic@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Rame Cromwell, Field and External Affairs Division (7506P), Office of Chemical Safety and Pollution Prevention, Environmental Protection Agency, 1200 Pennsylvania Ave. NW., Washington, DC 20460; telephone number: 703 308-9068; fax number: 703 508-3884; email address: cromwell.rame@epa.gov.

SUPPLEMENTARY INFORMATION: Supporting documents which explain in detail the information that the EPA will be collecting are available in the public docket for this ICR. The docket can be viewed online at http://www.regulations.gov or in person at the EPA Docket Center, EPA West, Room 3334, 1301 Constitution Ave. NW., Washington, DC. The telephone number for the Docket Center is 202-566-1744. For additional information about EPA's public docket, visit http://www.epa.gov/dockets.

Abstract: This information collection request covers the information collection activities associated with the container design and residue removal requirements and containment structure requirements. With respect to the container design and residue removal requirements, the information collection activities are associated with the requirement that businesses subject to the container regulations (pesticide registrants) and repackaging regulations (pesticide registrants and refillers) maintain records of test data, cleaning procedures, certain data when a container is refilled, and other supporting information. These records are subject to both call-in by EPA and on-site inspection by EPA and its representatives.

EPA has not established a regular schedule for the collection of these records, and there is no reporting. With respect to the containment structure requirements, the information collection activities are associated with the requirement that businesses subject to the containment structure regulations maintain records of the: (1) Monthly inspection and maintenance of each containment structure and all stationary bulk containers; (2) duration over which non-stationary bulk containers holding pesticide and not protected by a secondary containment unit remain at the same location; and (3) construction date of the containment structure.

The businesses subject to the containment structure regulations include agrichemical retailers and refilling establishments, custom blenders and commercial applicators of agricultural pesticides. The records have to be maintained by the owners and operators of such businesses. There is no regular schedule for the collection of either of these records, nor does EPA anticipate a call-in of records at some future date. Instead, the records would be available to inspectors to ensure that businesses are in compliance with containment requirements. These inspections are generally conducted by the states, which enforce FIFRA regulations through cooperative agreements with EPA.

Form Numbers: None.

Respondents/affected entities: Entities potentially affected by this ICR include pesticide registrants and businesses who formulate pesticide products or pesticide formulation intermediates (NAICS code 325320), farm supply wholesalers (NAICS code 422910), swimming pool applicators (NAICS codes 561790,453998, and 235990), and agricultural (aerial and ground) commercial applicators (NAICS code 115112).

Respondent's obligation to respond: mandatory under sections 3, 8, 19, and 25 of the Federal Insecticide and Rodenticide Act (FIFRA) (7 U.S.C. 136f, 136q, and 136w).

Estimated number of respondents: 23,586.

Frequency of response: On occasion.

Total estimated burden: 169,660 hours (per year). Burden is defined at 5 CFR 1320.03(b).

Total estimated cost: $6,248,079 (per year), includes $5,561,578 for container regulations and $686,501 for containment regulations.

Changes in the Estimates: The renewal of this ICR will result in an overall decrease of 4,890.5 hours in the total estimated respondent burden indentified in the currently approved ICR. This decrease reflects three revisions to the estimated annual burden. First, EPA received very few waiver requests for complying with the non-refillable container regulations, so the estimated rate of registrants requesting waivers decreases from 5% to 1%. The decrease in estimated waiver requests resulted in a corresponding decrease in the associated burden. Second, since registrant repacking activities are similar to the repacking activities conducted by refillers and swimming pool supply companies, EPA increased the average annual burden per registrant respondent from 1 hour to 12.5 hours per respondent to be consistent with the average burden per refiller or swimming pool supply company. Third, for entities subject to the containment requirements, some activities in the previous ICR were one-time activities completed by the compliance date of August 16, 2009. This ICR includes only the ongoing annual information collection activities for the containment requirements, resulting in a corresponding decrease in the estimated annual burden per respondent from the previous ICR. These changes are adjustments.

John Moses,
Director, Collection Strategies Division.

[FR Doc. 2013-17517 Filed 7-19-13; 8:45 am]

BILLING CODE 6560-50-P